DEPARTMENT OF VETERANS AFFAIRS

[OMB Control Nos., 2900-0782,, 2900-0770, 2900-0609, 2900-0701, 2900-0712, 2900-0773, 2900-0838, 2900-0834, 2900-0836, 2900-0837, 2900-0835]

Proposed Information Collection (Voice of Veteran Surveys, Generic Clearance for the Collection of Qualitative Feedback on Agency Service Delivery (National Cemetery Administration, Veterans Benefits Affairs, Veterans Health Administration), Survey of Veteran Enrollees' Health and Reliance Upon VA, Bereaved Family Member Satisfaction Survey, Nation-Wide Customer Satisfaction Surveys (Survey of Healthcare Experiences of Patients), Veterans Health Benefits Handbook Satisfaction Survey, Veterans Transportation Service Data Collection, Center for Verification and Evaluation Site Inspections, Post Engagement, Awards & Return on Investment, Center for Verification and Evaluation Verification Survey) Activity: Comment Request

AGENCY: Veteran's Experience Office, Department of Veterans Affairs.

ACTION: Notice.

SUMMARY: The Veteran's Experience Office, Department of Veterans Affairs (VA), is announcing an opportunity for public comment on the proposed collection of certain information by the agency. Under the Paperwork Reduction Act (PRA) of 1995, Federal agencies are required to publish notice in the Federal Register concerning each proposed collection of information, including each proposed non-substantive change request of a currently approved collection, and allow 60 days for public comment in response to the notice. This notice solicits comments on 11 Information collections for the Veteran's Experience Agency Priority Goal, which specifies that four survey questions will be incorporated into existing customer experience surveys by Q1 FY2016. The information collected will be used by VA departmental leadership to track enterprise performance improvements as experienced by our Veterans. This notice will serve as notification for any future Non-substantive Change Information Collection Request adding these four customer service questions in the Information Collection Requests.

DATES: Written comments and recommendations on the proposed collection of information should be received on or before March 8, 2016.

ADDRESSES: Submit written comments on the collection of information through Federal Docket Management System (FDMS) at www.Regulations.gov or to Thomas Pasakarnis, Veteran's Experience Office (008VE), Department of Veterans Affairs, 810 Vermont Avenue NW., Washington, DC 20420 or email to Thomas.pasakarnis@va.gov. Please refer to “OMB Control No. 2900-VE” in any correspondence. During the comment period, comments may be viewed online through the FDMS.

FOR FURTHER INFORMATION CONTACT: Thomas Pasakarnis at (202) 461-5869 or FAX (202) 495-5401.

SUPPLEMENTARY INFORMATION: Under the PRA of 1995 (Pub. L. 104-13; 44 U.S.C. 3501-21), Federal agencies must obtain approval from the Office of Management and Budget (OMB) for each collection of information they conduct or sponsor. This request for comment is being made pursuant to section 3506(c)(2)(A) of the PRA.

With respect to the following collection of information, Veteran's Experience invites comments on: (1) Whether the proposed collection of information is necessary for the proper performance of VBA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Type of Review: Non-Substantive Change of currently approved collections.

Abstract: For FY16-17, VA set Veterans Experience as an agency priority goal to improve Veterans Experience with VA. Because this is a new measure, VA developed one brand and three experience measures to support the Veterans Experience Agency Priority Goal (APG). VA will add four APG questions to each survey identified below. One question deals with VA brand, and three questions deal with Veterans experience.

“I got the service I needed.”

“It was easy to get what I needed.”

“I felt like a valued customer.”

“I trust VA to fulfill our country's commitment to veterans.”

Strongly agree

Agree

Neither Agree nor Disagree

Disagree

Strongly disagree

Adding these questions is necessary to establish an enterprise measure of VA's performance as experienced by our Veterans, as is needed to support VA's Veterans Experience FY16-17 APG. VA's goal is to incorporate these four survey questions into VA's existing customer experience by Q1 FY2016. The information collected will be used by VA departmental leadership to track enterprise performance improvements as experienced by our Veterans.

VA expects that it will take approximately one minute for each survey respondent to answer these new questions. As set forth below, this change is expected to affect approximately 132 instruments approved under eleven different OMB control numbers. Together, these instruments are nearly 1.5 million times per year. The cumulative annual burden of this change is more than 24,000 hours ((1 minute per submission * 1,462,937 submissions)/60 minutes per hour = 24,382.28 hours). There is also some annual cost burden associated with this request. Specifically, some of these instruments are administered by third-party contractors, who will need to revise the instruments.

VA has provided a table detailing the full burden information for each information collection located at http://www.oprm.va.gov/ers/ers_reports.aspx. Please note, additional instruments approved under these or additional control numbers may be included in the Veteran's Experience initiative in the future. Therefore, this online table detailing burden information will be updated periodically.

Titles of Affected Collections and Instruments

(1) 2900-0782—Voice of Veteran Surveys

(1) Compensation Access

(2) Compensation Servicing

(3) Pension Access

(4) Pension Servicing

(5) Education Access

(6) Education Servicing

(7) VR&E Access

(8) VR&E Servicing

(9) VR&E Non-Participant

(10) Loan Guarantee Home Loan Process

(11) Specialty Adapted Housing Grant Process, mail

(2) 2900-0770—Generic Clearance for the Collection of Qualitative Feedback on Agency Service Delivery (National Cemetery Administration, Veterans Benefits Affairs, Veterans Health Administration)

(1) CFM Supplier Satisfaction Survey, form 10-10163

(2) VLER Program Survey, Undecided Vet Interview, form 10-0457

(3) Veterans Choice Program Survey, form 10-0450

(4) Nationwide Dialysis Contracts Program Veterans Survey, form 10-0455

(5) VA Courtesy Standards—The Golden Rule Approach Veteran Feedback Form, 10-0497

(6) Phone Apps Focus Group Demographic Questionnaire, form10-0496a

(7) PTSD Coach App Survey, form 10-0496

(8) Understanding PTSD for Family Caregivers: Feedback Survey, form 10-0495

(9) Building Better Caregivers Satisfaction Survey, form 10-0499

(10) Building Better Caregiver Phone Survey, form 10-0499

(11) Clinical Video Telehealth (CVT) Patient Satisfaction Survey, form 10-0481a

(12) Compensation and Pension Examination Program (CPEP) Veterans Satisfaction Survey, form 10-0480

(13) Michael E. DeBakey Patient Satisfaction Survey, form 10-0476

(14) Food and Nutrition Satisfaction Survey, form 10-0498

(15) Veterans Transportation Service (VTS) Satisfaction Questionnaire, form 10-0517

(16) Patient Satisfaction Questionnaire: Laboratory P&LMS VA New England Healthcare System, form 10-0516

(17) Project ARCH (Access Received Closer to Home) Patient Satisfaction Survey, form 10-0522

(18) PVAMC Low Vision Patient Satisfaction Survey, form 10-0527

(19) Vendor Application for Fair, form 10-0528

(20) Notice Your Nurse: Notice Your NurseThank you card, form 10-0519

(21) The Continuity of Medication Management Patient Survey, form 10-0526

(22) Caribbean Healthcare System Pathology and Laboratory Medicine, form 10-0526

(23) Tele-Retinal Patient Satisfaction Survey, form 10-0540

(24) Purchased Care Patient Satisfaction Survey, form 10-0538

(25) Spinal Cord Home Care Survey, form 10-0542

(26) Childcare Services Satisfaction Survey, form 10-0531

(27) Neurology/Rehabilitation Inpatient Program Satisfaction Survey, form 10-0546

(28) Non-VA Care Coordination Veteran Satisfaction Survey, form 10-0545

(29) Survey of Veterans' Satisfaction with Income Verification, form 10-0541

(30) Spinal Cord Injury Patient Survey, form 10-0515

(31) National Family Caregiver Participant Training Feedback Form 10-0520

(32) Psychiatric Patient Satisfaction Survey, form 10-0550

(33) Cardiac Cath Lab Customer Satisfaction Survey, form 10-0547

(34) Community Living Center (CLC) Satisfaction Survey, form 10-0548

(35) Survey of Veterans Perceptions of an Enhanced VA Outpatient Prescription Label, form 10-0549

(36) Dental Service Customer Satisfaction Survey, form 10-0553

(37) Dental Satisfaction Survey (Spanish version), form 10-0553s

(38) Office of Mental Health Veteran Satisfaction Survey, form 10-0554

(39) Patient Experience of Care Survey, form 10-0552

(40) VCS Patriot Store and VCS Patriot Cafe Customer Satisfaction Survey, form 10-0551

(41) Epilepsy Centers of Excellence (ECoE) Patient Survey, form10-0558

(42) Fraud, Waste and Abuse Complaint Form, 10-0500

(43) Sodium Dichromate Exposure Exam Feedback Survey, form 10-0559

(44) Patient Satisfaction Survey- Radiation Oncology WEB survey, form 10-10063

(45) Hem-Oncology Telehealth Satisfaction WEB Survey, form 10-10054

(46) Vet Appointment Mobile App Survey, form 10-10057

(47) Telephone Care Services Patient Satisfaction Survey, form 10-10058

(48) VISN 20 Telephone Customer Service Experience Satisfaction Survey, form 10-10059

(49) Prosthetics Customer Service Survey, form 10-10125

(50) Customer Patient Satisfaction Monthly Survey, form 10-10126

(51) HME Vendor Performance Survey 2014, form 10-10122

(52) SOU-SORCC Patient Survey, form 10-10145

(53) Audiology Hearing Aid Questionnaire, form 10-10128

(54) Advanced Education Veteran Survey -SORCC-Patient, form 10-10128

(55) VoV OSI Primary Care Survey—Conjoint Analysis, form 10-10147

(56) Women's Health Research Network, form 10-10142

(57) Telehealth Master Preceptor, form 10-10127

(58) Mental Health Survey, form 10-10129

(59) Extended Hours Program Evaluation—Non-Users Survey, form 10-10129

(60) VISN 1 Extended Hours Evaluation—Users, form 10-10132

(61) Maternity Care Coordination Experiences of Pregnant Veterans Survey, form 10-10131

(62) State Veterans Home Admin Survey, form 10-10136

(63) Tobacco and Smoking Cessation Survey, form 10-10136

(64) Voice of the Veteran (VOV) Satisfaction Survey Office of Strategic Integration (OSI) Conjoint Analysis, form 10-10144

(65) VISN 1 NCL Patient Satisfaction Questionnaire, form 10-10133

(66) Interview and Discussion Group Protocols for the Institute of Medicine: 09-IOM VA MH Services Eval Non-VA Service Users Discussion Protocol, form 10-10130

(67) Battlecreek Urgent Care Survey, form 10-10135

(68) MEC Notification Survey, form 10-10155

(69) Caregiver Feedback form. Self-Care Course, form 10-10119

(70) VISN20 Cancer Care Survey—Veteran Satisfaction, form 10-10164

(71) Customer Satisfaction Survey on VA Research Communication, VA Research Currents, form 10-10167

(72) Patient Satisfaction Survey Boston VAMC Ophthalmology, form 10-211001NR

(73) Anticoagulation (warfarin/Coumadin) Patient Satisfaction Survey, form 10-211002

(74) Patient Survey: Waiting Room Television Video Patient Education, form 10-211005

(75) MSCoE Patient Survey, form 10-211003

(76) PROJECT ARCH (Access Received Closer to Home) Non-Participating Veterans Survey, form 10-211004

(77) Outpatient Pharmacy Customer Satisfaction Survey, form 10-211006NR

(78) National Patient Centered Community Care Veterans Survey Question, form 10-211009

(79) OKC Dental (Ambulatory) Patient Satisfaction Survey, form 10-211008

(80) HEC Enrollment Survey, form 10-211013

(81) Non-VA-Purchased Care Veteran Survey, form 10-211013

(82) Survey of Rehabilitation Care, form 10-211010

(83) Tele-Dermatology Imaging Patient Satisfaction Survey, form 10-211016

(84) Home Based Primary Care Survey, Lawton CBOC, form 10-211014

(85) Dental Insurance Program Survey, form 10-211011

(86) Survey of Patient Satisfaction at Surgical Service, form 10-211015

(87) Survey of Patient Satisfaction at Surgical Service -Spanish, form 10-211015SP

(88) Oklahoma City VAMC Home Based Primary Care (HBPC) Survey, form 10-211014a

(89) Telephone Survey on User Experience with VLER Health Exchange'

(90) Provider Interview Guide, form 2900-0770

(91) Veteran (Patient) Interview-Guide, form 2900-0770

(92)

(93) Online Survey—VHA Customer Value Survey, form 2900-0770

(94) State Veterans Home Patient Satisfaction, form 2900-0770

(95) VISN 1 Call Center Telephone Survey Script (Veteran Women), form 2900-0770

(96) Gulf War Newsletter Survey—Office of Public Health, form 2900-0770

(97) My HealtheVet (MHV) Web site Redesign Veteran and Family Caregiver Demographic Survey, form 2900-0770

(98) 2014 Post-911CommunicationSurvey-Questionnaire, form 2900-0770

(99) Claims Clinic Satisfaction Survey (VBA), form 2900-0770

(100) Feedback US Survey

(101) Feedback USA Survey Button—KIOSK, form 2900-0770

(102) Feedback USA Survey Button—Internet Web site, form 2900-0770

(103) Business Requirements Sessions

(104) Awards and ROI-2013NVSB (Small Business), form 2900-0770

(105) Awards and ROI-2013NVSB (Large Business), form 2900-0770

(106) 2014 National Veterans Small Business Engagement (NVSBE) Events Satisfaction, form 2900-0770

(107) Business Sessions Satisfaction Survey, form?

(108) CVE Booth Satisfaction, form 2900-0770

(109) Exhibitor Satisfaction 2900-0770

(110) Learning Sessions 2900-0770

(111) NRT Satisfaction 2900-0770

(112) Senior Leaders Roundtables, 2900-0770

(113) 2014 NVSBE Post-Engagement Attendees Survey, 2900-0770

(114) OSDBU Post-Event Evaluation, 2900-0770

(115) NAC Customer Response Survey—WEB

(3) 2900-0609—Survey of Veteran Enrollees' Health and Reliance Upon VA

(1) (CATI) Survey of Veteran Enrollees' Health and Reliance Upon VA, form 10-21034G

(4) 2900-0701—Bereaved Family Member Satisfaction Survey

(1) Bereaved Family Member Satisfaction Survey Administered by Facility Staff, form 10-21081

(5) 2900-0712—Nation-wide Customer Satisfaction Surveys (Survey of Healthcare Experiences of Patients)

(1) Recently Discharged Patient, form 10-1465-1

(2) Recently Discharged Inpatient, form 10-1465-2

(3) Ambulatory Care, form 10-1465-3

(4) Ambulatory Care, form 10-1465-4

(5) Ambulatory Care, form 10-1465-5

(6) Ambulatory Care, form 10-1465-6

(7) Home Health Care Survey, form 10-1465-7

(8) In-Center Hemodialysis Care, form 10-1465-8

(6) 2900-0773—Veterans Health Benefits Handbook Satisfaction Survey

(1) Veterans Health Benefits Handbook Satisfaction Survey, form 10-0507

(7) 2900-0838—Veterans Transportation Service Data Collection

(1) Veterans Transportation Service Data Collection Telephonic Script

(8) 2900-0834—Center for Verification and Evaluation Site Inspections

(1) CVE Site Inspection Survey, Historical

(2) CVE Site Inspection Survey, Regular

(9) 2900-0836—Post Engagement

(1) 2015 National Veterans Small Business Engagement Post Engagement Survey

(10) 2900-0837—Awards & Return on Investment

(1) Awards and Return on Investment after 2015 National Veterans Small Business Engagement (Small Business)

(2) Awards and Return on Investment after 2015 National Veterans Small Business Engagement (Large Business)

(11) 2900-0835—Center for Verification and Evaluation Verification Survey

(1) CVE Pre-Application Survey

(2) CVE Exit Survey

(3) CVE Post-Determination Letter

By direction of the Secretary.
Crystal Rennie,
Department Clearance Officer, Office of Privacy and Records Management, Department of Veterans Affairs.

[FR Doc. 2016-00075 Filed 1-7-16; 8:45 am]

BILLING CODE 8320-01-P